DEPARTMENT OF COMMERCE

International Trade Administration

[C-351-504, A-351-503, A-122-503, A-570-502, A-821-801, A-823-801, A-570-001]

Iron Construction Castings From Brazil, Canada, and China; Solid Urea From Russia and Ukraine, and Potassium Permanganate From China: Extension of Time Limit for the Final Results of Sunset Reviews of Antidumping and Countervailing Duty Orders

AGENCY: Import Administration, International Trade Administration, Department of Commerce.

DATES: Effective Date: April 7, 2005.

FOR FURTHER INFORMATION CONTACT: Martha Douthit at 202-482-5050, or Hilary Sadler, Esq. at 202-482-4340, Import Administration, International Trade Administration, U.S. Department of Commerce, 14th Street & Constitution Avenue, NW., Washington, DC 20230.

Background

On October 1, 2004, the Department initiated sunset reviews of the antidumping orders on Iron Construction Castings from Brazil, Canada, and China; Solid Urea from Russia and Ukraine, and Potassium Permanganate from China, and the countervailing duty order on Iron Construction Casting from Brazil. Based on adequate responses from the domestic interested parties and inadequate responses from respondent interested parties, the Department of Commerce (“the Department”) is conducting expedited sunset reviews of the antidumping duty orders on Iron Construction Castings from Brazil, Canada, and China, Solid Urea from Russia and Ukraine, and Potassium Permanganate from China, and the countervailing duty on Iron Construction Castings from Brazil. The Department's final results of these sunset reviews were originally scheduled for January 31, 2005. On December 17, 2004, the Department extended the final results of these reviews until March 31, 2005.

Extension of Time Limit for Final Results of Reviews

In accordance with section 751(c)(5)(B) of the Tariff Act of 1930, as amended (“the Act”), the U.S. Department of Commerce (“the Department”) may extend the period of time for making its final determination in a sunset review by not more than 90 days if it determines that the review is extraordinarily complicated. As set forth in 751(c)(5)(C)(v) of the Act, the Department may treat a sunset review as extraordinarily complicated if it is a review of a transition order, as is the case in these proceedings. The Department has determined, pursuant to section 751(c)(5)(C)(v) of the Act, that the sunset reviews of the antidumping duty orders on Iron Construction Casting from Brazil, Canada, and China, Solid Urea from Russia and Ukraine, Potassium Permanganate from China, and the countervailing duty order on Iron Construction Castings from Brazil, are extraordinarily complicated and require additional time for the Department to complete its analysis. Therefore, the Department will extend the deadlines in these proceedings and, as a result, intends to issue the final results of the sunset reviews on Iron Constructions Casting from Brazil, Canada, and China, Solid Urea from Russia, and Ukraine, and Potassium Permanganate from China, on or about Monday, May 2, 2005, 90 days from the original scheduled date of final results of review. This notice is issued and published in accordance with sections 751(c)(5)(B) and 751(c)(5)(C)(v) of the Act.

Dated: March 31, 2005.
Barbara E. Tillman,
Acting Deputy Assistant Secretary for Import Administration.

[FR Doc. E5-1610 Filed 4-6-05; 8:45 am]

BILLING CODE 3510-DS-P